DEPARTMENT OF THE INTERIOR

Fish and Wildlife Service

[Docket No. FWS-R2-ES-2017-0036; FXES11130200000-189-FF02ENEH00]

Endangered and Threatened Wildlife and Plants; Final Mexican Wolf Recovery Plan, First Revision

AGENCY: Fish and Wildlife Service, Interior.

ACTION: Notice of availability.

SUMMARY: We, the U.S. Fish and Wildlife Service (Service), announce the availability of our Mexican Wolf Recovery Plan, First Revision (Recovery Plan). The Mexican wolf (Canis lupus baileyi) is listed as endangered under the Endangered Species Act of 1973, as amended (ESA), and is currently found in the U.S. States of Arizona and New Mexico, and in Chihuahua, Mexico. The recovery plan includes specific recovery criteria to be met to enable us to remove this species from the List of Endangered and Threatened Wildlife. The first Mexican wolf recovery plan was completed in 1982.

ADDRESSES: You may obtain a copy of the recovery plan from our Web site at http://www.fws.gov/endangered/species/recovery-plans.html or the Mexican Wolf Recovery Program Web site at https://www.fws.gov/southwest/es/mexicanwolf/. The recovery plan and related materials, including comments received on the draft recovery plan, are also available for public review online at http://www.regulations.gov in Docket No. FWS-R2-ES-2017-0036. You may also request a copy of the recovery plan by contacting Sherry Barrett, Mexican Wolf Recovery Coordinator, U.S. Fish and Wildlife Service, 2105 Osuna Road NE., Albuquerque, NM 87113 (telephone 505-761-4748).

FOR FURTHER INFORMATION CONTACT: Sherry Barrett (see ADDRESSES).

SUPPLEMENTARY INFORMATION:

Background

A primary goal of our endangered species program and the Endangered Species Act (ESA) (16 U.S.C. 1531 et seq.) is recovering endangered or threatened animals and plants to the point they are again secure, viable ecosystem members. Recovery means improving listed species' status to the point at which they no longer meet the definition of threatened or endangered and listing is no longer appropriate under the criteria set out in in section 4(a)(1) of the ESA. The ESA requires developing recovery plans for listed species, unless such a plan would not promote a particular species' conservation.

The Service has revised its approach to recovery planning; the revised process is called Recovery Planning and Implementation (RPI). The RPI process is intended to reduce the time needed to develop and implement recovery plans, increase recovery plan relevancy over a longer timeframe, and add flexibility to recovery plans so they can be adjusted to new information or circumstances. Under RPI, a recovery plan will include statutorily required elements (measurable criteria, site-specific management actions, and estimates of time and costs), along with a concise introduction and our strategy for how we plan to achieve species recovery. The RPI recovery plan is supported by a separate Species Status Assessment, or in some cases, a species biological report that provides the background information and threat assessment, which are key to recovery plan development. The essential component to flexible implementation under RPI is producing a separate working document called the Recovery Implementation Strategy (implementation strategy). The implementation strategy steps down from the more general description of actions described in the recovery plan to detail the specific, near-term activities needed to implement the recovery plan. The implementation strategy will be adaptable by being able to incorporate new information without having to concurrently revise the recovery plan, unless changes to statutory elements are required.

The Mexican Wolf Recovery Plan, First Revision, represents one of the first products the Service has developed using RPI. On June 30, 2017, the Service made the draft Recovery Plan available for a 60-day public comment period during which we received more than 100,000 comments (82 FR 29918). The public comments and additional materials related to the Recovery Plan are available for public review online at http://www.regulations.gov in Docket No. FWS-R2-ES-2017-0036.

In addition to the recovery plan and implementation strategy, we completed a Biological Report describing the Mexican wolf's current status. The Biological Report supports the recovery plan by providing the background, life-history, and threat assessment information. The Biological Report and Recovery Plan were independently peer-reviewed by scientists outside of the Service. As with the implementation strategy, we will update the Biological Report as new species status information becomes available.

Recovery Plan Strategy

The overall strategy for recovering the Mexican wolf focuses on improving the two populations' resilience (i.e., population size) and genetic representation, one focused south of Interstate 40 in Arizona and New Mexico in the United States, and one focused in the northern portion of the Sierra Madre Occidental in Mexico, across an adequate ecological and geographic range of representation within each population. The strategy involves carefully managing the captive-breeding program, releasing Mexican wolves from the captive-breeding program into the wild, and translocating Mexican wolves from the Mexican Wolf Experimental Population Area in portions of New Mexico and Arizona to Mexico, to ensure two genetically and demographically viable populations are extant in the wild for redundancy.

Another key component of the strategy includes working with Federal, State, Tribal, local partners, and the public, to improve Mexican wolf tolerance on the landscape.

Authority: We developed our recovery plan and publish this notice under the authority of the Endangered Species Act, section 4(f), 16 U.S.C. 1533(f).

Dated: October 24, 2017.
Amy Lueders,
Regional Director, Southwest Region, U.S. Fish and Wildlife Service.

[FR Doc. 2017-26041 Filed 12-1-17; 8:45 am]

BILLING CODE 4333-15-P